NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: October 17, 2006, 8:30 a.m.-5:30 p.m. and October 18, 2006, 8:30 a.m.-2 p.m.

Place: National Science Foundation, 4201 Wilson Boulevard, Room 375, Arlington, VA 22230.

Type of Meeting: Open.

Contact Person: Dr. Margaret E.M. Tolbert, Senior Advisor and Executive Liaison, CEOSE, Office of Integrative Activities, National Science Foundation, 4201 Wilson Boulevard, Arlington, VA 22230. Telephone: (703) 292-8040. mtolbert@nsf.gov.

Minutes: May be obtained from the Executive Liaison at the above address.

Purpose of Meeting: To provide advice and recommendations concerning broadening participation in science and engineering.

Agenda

Tuesday, October 17, 2006

Welcome and Opening Statement by the CEOSE Chair.

Introduction of New CEOSE Members.

Reports by CEOSE Liaisons to NSF Advisory Committees and Discussion of Key Points.

Discussion: Representatives of Several Federal Agencies to Participate in a Discussion of Broadening Participation Programs and Activities at Their Agencies.

Interaction with an NSF Senior Manager.

Subcommittee Report on Institutional Transformation and Discussion of Plans for a Future Mini-Symposium on That Topic.

Wednesday, October 18, 2006

Opening Statement by the CEOSE Chair.

Reports by Subcommittee Chairs and Discussions Continued: Community Colleges, Communications, Evaluation and Accountability, and Preparation of the 2006 CEOSE Biennial Report to Congress.

Completion of Unfinished Business: Refining Potential Recommendations to NSF and Action Items.

Dated: September 19, 2006.
Susanne Bolton,
Committee Management Officer.

[FR Doc. 06-8029 Filed 9-21-06; 8:45 am]

BILLING CODE 7555-01-M